DEPARTMENT OF TRANSPORTATION

Federal Motor Carrier Safety Administration

[Docket No. FMCSA-2009-0150]

Medical Review Board Public Meeting

AGENCY: Federal Motor Carrier Safety Administration (FMCSA), DOT.

ACTION: Notice of Medical Review Board (MRB) public meeting.

SUMMARY: FMCSA announces a public meeting of the Agency's MRB. The MRB public meeting will provide the public an opportunity to observe MRB deliberations about FMCSA's medical standards, and provide comments to the MRB in accordance with the Federal Advisory Committee Act (FACA).

DATES: The MRB meeting will be held from 9 a.m.-4:20 p.m. on Wednesday, July 1, 2009. Please refer to the preliminary agenda for this meeting in the SUPPLEMENTARY INFORMATION section of this notice for specific information.

ADDRESSES: The meeting will take place at the United States Department of Transportation, West Building Ground Floor, Conference Room 8, 9, 10, 1200 New Jersey Avenue, SE., Washington, DC 20590. You may submit comments bearing the Federal Docket Management System (FDMS) Docket ID FMCSA-2009-0150 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.).

You may review the DOT's complete Privacy Act Statement in the Federal Register published on April 11, 2000 (65 FR 19476). This information is also available at http://Docketinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

Information on Services for Individuals with Disabilities:

For information on facilities or services for individuals with disabilities or to request special assistance at the meeting, contact Jennifer Musick at 703-998-0189 ext. 237.

SUPPLEMENTARY INFORMATION: The preliminary agenda for the meeting includes: *

0900-0905 Call to Order, Introduction and Agenda Review.

0905-0935 Psychiatric Disorders and CMV Driver Safety Evidence Report Presentation.

0935-1005 Psychiatric Disorders and CMV Driver Safety Medical Expert Panel Presentation Public Comment on ICDs and CRT: Implications for Driving a CMV.

1005-1020 Public Comment on Psychiatric Disorders and CMV Driver Safety.

1020-1120 MRB Deliberation on Psychiatric Disorders and CMV Driver Safety.

1120-1150 Circadian Rhythm Disorders, Parasomnias, Sleep-Related Movement Disorders, Hypersomnias of Central Origin and CMV Driver Safety Evidence Report Presentation.**

1150-1205 Public Comment on Circadian Rhythm Disorders, Parasomnias, Sleep-Related Movement Disorders, Hypersomnias of Central Origin and CMV Driver Safety.

1205-1305 Lunch (on your own). ***

1305-1335 MRB Deliberations on Circadian Rhythm Disorders, Parasomnias, Sleep-Related Movement Disorders, Hypersomnias of Central Origin and CMV Driver Safety Evidence Report Presentation.

1335-1405 Musculoskeletal Disorders II, Spinal Cord Injury and CMV Driver Safety Evidence Report Presentation.

1405-1420 Public Comment on Musculoskeletal Disorders II, Spinal Cord Injury and CMV Driver Safety.

1420-1450 MRB Deliberations on Musculoskeletal Disorders II, Spinal Cord Injury and CMV Driver Safety.

1450-1520 Implantable Cardioverter Defibrillators (ICDs) and Cardiac Resynchronization Therapy (CRT): Implications for Driving a CMV Evidence Report Presentation.

1520-1535 Public Comment on ICDs and CRT: Implications for Driving a CMV.

1535-1605 MRB Deliberations on ICDs and CRT: Implications for Driving a CMV.

1605-1620 Other Business.

1620 Call to Adjourn.

* Agenda is subject to change.

** This topic does not include sleep apnea which was previously addressed by the MRB in January 2008.

*** Breaks will be announced on meeting day and may be adjusted according to schedule changes, other meeting requirements.

Background

The U.S. Secretary of Transportation announced on March 7, 2006, the five medical experts who serve on FMCSA's Medical Review Board (MRB). Section 4116 of the Safe, Accountable, Flexible, Efficient Transportation Equity Act: A Legacy for Users (SAFETEA-LU, Pub. L. 109-59) requires the Secretary of Transportation with the advice of the MRB to “establish, review, and revise medical standards for operators of Commercial Motor Vehicles (CMVs) that will ensure that the physical condition of operators is adequate to enable them to operate the vehicles safely.” FMCSA is planning updates to the physical qualification regulations of CMV drivers, and the MRB will provide the necessary science-based guidance to establish realistic and responsible medical standards.

The MRB operates in accordance with the Federal Advisory Committee Act (FACA) as announced in the Federal Register (70 FR 57642, October 3, 2005). The MRB is charged initially with the review of all current FMCSA medical standards (49 CFR 391.41), as well as making recommendations for new science-based standards and guidelines to ensure that drivers operating CMVs in interstate commerce, as defined in CFR 390.5, are physically capable of doing so.

Meeting Participation

Attendance is open to the interested public, including medical examiners, motor carriers, drivers, and representatives of medical and scientific associations. Written comments for this MRB meeting will also be accepted beginning on June 12, 2009 and continuing until July 15, 2009, and should include the docket ID that is listed in the ADDRESSES section.

During the MRB meeting, oral comments may be limited depending on how many persons wish to comment; and will be accepted on a first come, first serve basis as requestors register at the meeting. The comments must directly address relevant medical and scientific issues on the MRB meeting agenda. For more information, please view the following Web site: http://www.fmcsa.dot.gov/mrb.

Issued on: June 5, 2009.
Larry W. Minor,
Associate Administrator for Policy and Program Development.

[FR Doc. E9-13785 Filed 6-11-09; 8:45 am]

BILLING CODE 4910-EX-P